DEPARTMENT OF AGRICULTURE

Forest Service

Information Collection; Evaluation of the Environmental Intervention Handbook

AGENCY: Forest Service, USDA.

ACTION: Notice; request for comment.

SUMMARY: In accordance with the Paperwork Reduction Act of 1995, the Forest Service is seeking comments from all interested individuals and organizations on the new information collection, Evaluation of the Environmental Intervention Handbook.

DATES: Comments must be received in writing on or before August 6, 2004 to be assured of consideration. Comments received after that date will be considered to the extent practicable.

ADDRESSES: Comments concerning this notice should be addressed to Patricia L. Winter, Pacific Southwest Research Station, Forest Service, USDA, 4955 Canyon Crest Drive, Riverside, CA 92507.

Comments also may be submitted via facsimile to (909) 680-1501 or by e-mail to: pwinter@fs.fed.us.

The public may inspect comments received at 4955 Canyon Crest Drive, Riverside, CA 92507; building one reception during normal business hours. Visitors are encouraged to call ahead to (909) 680-1500 to facilitate entry to the building.

FOR FURTHER INFORMATION CONTACT: Patricia L. Winter, Pacific Southwest Research Station, USDA FS, (909) 680-1557.

SUPPLEMENTARY INFORMATION: Title: Evaluation of the Environmental Intervention Handbook.

OMB Number: 0596—New.

Expiration Date of Approval: New.

Type of Request: New.

Abstract: Forest Service and university researchers will contact recipients of a handbook designed to help resource managers reduce depreciative activities. Through those contacts they will evaluate the uses of the handbook, barriers to usage, and the need for revision of the handbook or creation of supplementary materials. This will help the researchers improve their ability to provide information to natural resource managers on reducing activities like littering, vandalism, and other activities that cause damage. To gather the information, a mini-survey will be sent through the mail to all handbook recipients. Those agreeing to participate further will participate in a more in-depth survey, conducted by e-mail, telephone or mail, based on respondent preference. Follow-up telephone contacts may occur if we need to clarify responses to the in-depth survey.

The information will be collected and analyzed by a Forest Service researcher and analyst/technicians, and a researcher at a cooperating university. Both researchers are experts in applied social psychology and survey research.

1. Respondents to the mini survey will be asked about recollection of the handbook, about the role of depreciative activities in their own work settings, and about their willingness to participate in the in-depth survey. Respondents to the in-depth survey will be asked to assess the impact of depreciative activities in natural resource settings, their opinion of availability of materials to assist resource managers in addressing depreciative activities, to rate a series of aspects of the intervention handbook, and to provide some basic soiodemographic information for purposes of comparison to other respondents.

2. All recipients of the Environmental Intervention Handbook will be contacted. Responses will be voluntary and confidential.

3. Responses will be used to evaluate the application and uses of the handbook, the need for revision of the handbook, and the need for additional tools or supplementary information to be used with handbook.

Without the proposed information collection, assessment of how the Handbook was used, how well it worked, whether or not we need to revise it, and if we need to provide additional tools will not be known. This information will help the researchers supply information to natural resource managers on methods to decrease depreciative activities. The information can also be shared with other researchers who are developing methods for reducing depreciative activities.

Estimate of Annual Burden: The average annual burden estimated per respondent is 32 minutes, based on 50 respondents at 8 minutes for the mini-survey, 45 respondents at 20 minutes for the in-depth survey, and 20 respondents at 15 minutes for the follow-up.

Type of Respondents: Respondents include natural resource managers in State, Regional, and county agencies, academicians, environmental educators, consultants, and researchers.

Estimated Annual Number of Respondents: Fifty respondents will be contacted.

Estimated Annual Number of Responses per Respondent: A maximum of three responses per year will be requested.

Estimated Total Annual Burden on Respondents: The annual burden on respondents that is estimated for this information collection is 26.7 hours.

Comment is Invited:

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: May 28, 2004.
Ann M. Bartuska,
Deputy Chief for Research and Development.

[FR Doc. 04-12812 Filed 6-4-04; 8:45 am]

BILLING CODE 3410-11-P